DEPARTMENT OF LABOR

Employment and Training Administration

Notice of Intent To Renew the Advisory Committee on Apprenticeship (ACA) Charter

AGENCY: Employment and Training Administration (ETA), Labor.

ACTION: Notice.

SUMMARY: The Secretary of Labor has determined that the renewal of the Advisory Committee on Apprenticeship is necessary and in the public interest. The Department of Labor intends to renew the ACA Charter with revisions. The revisions are not intended to change the purpose or the Committee's original intent. The revisions are a routine updating of the Charter to ensure closer alignment with the Department's current apprenticeship expansion goals.

FOR FURTHER INFORMATION CONTACT: The Designated Federal Officer, Mr. Daniel Villao, Deputy Administrator for National Office Policy, Office of Apprenticeship, Employment and Training Administration, U.S. Department of Labor, 200 Constitution Avenue NW., Room C-5321, Washington, DC 20210, Telephone: (202) 693-2796 (this is not a toll-free number).

SUPPLEMENTARY INFORMATION: Registered Apprenticeship is a unique public private partnership that is highly dependent on the engagement and involvement of its stakeholders and partners for its ongoing operational effectiveness. Apart from the ACA, there is no single organization or group with the broad representation of labor, employers, and the public available to consider the complexities and relationship of apprenticeship activities to other training efforts or to provide advice on such matters to the Secretary. It is particularly important to have such considerations at this time in light of the current national interest in apprenticeship and the Department of Labor's goal to double the number of apprentices across the country, in the next five years by expanding into a variety of non-traditional industries. The ACA's insight and recommendations on the best ways to grow apprenticeship to meet the emerging skill needs of employers is critical. For these reasons, the Secretary of Labor has determined that the renewal of a national advisory committee on apprenticeship is necessary and in the public interest. The ACA Charter is being renewed to provide advice and recommendations to the Secretary on the following: (1) The development and implementation of policies, legislation and regulations affecting the National Registered Apprenticeship system; (2) strategies that can expand the use of the Registered Apprenticeship model in non-traditional industries such as, but not limited to, Hospitality, Financial Services, Transportation/Logistics, Healthcare, Energy, Advanced Manufacturing, and Information Technology and Communications; (3) ways to more effectively partner with the public workforce system, workforce intermediaries, International apprenticeship partners, and educational institutions and communities to leverage Registered Apprenticeship as a valued post-secondary credential; including policies related to the Registered Apprenticeship College Consortium; (4) priorities and strategic investments to help in the development of career pathways that can generate access for everyone and sustained employment for new and incumbent workers, youth, Veterans, women, minorities and other under-utilized and disadvantaged populations; and (5) efforts to improve performance, quality and oversight, and utilization of the National Registered Apprenticeship system. The current ACA Charter will expire on January 14, 2017. The ACA's Charter is required to be renewed every two years. Since the Charter was last renewed in January 2015, it has been revised in four sections to ensure alignment with departmental priorities. The following four sections have been updated (1) Objectives and Scope of Activities; (2) Designated Federal Officer; and (3) Representation under the Membership and Designation; and (4) Recordkeeping.

Summary of the Changes

1. Objectives and Scope of Activities: The objectives and scope section of the ACA Charter outlines the areas of focus where the ACA will provide advice and recommendations. ETA is expanding and engaging with non-traditional apprenticeship partners, such as workforce intermediaries, and international partners. ETA also seeks to have ongoing engagement and feedback from the ACA on the impact of funding investments being made under the ApprenticeshipUSA initiative. The current ACA Charter states that the ACA will advise on ways to more effectively partner with the public workforce system, educational institutions and communities to leverage Registered Apprenticeship as a valued post-secondary credential. The proposed ACA Charter is being updated to reflect ETA's efforts to expand its partnerships to include workforce intermediaries, and interested partners from the international apprenticeship community. The proposed Charter is further updated to include the need for the ACA provide advice and recommendations on the impact of priorities and strategic investments being made under ApprenticeshipUSA.

2. Designated Federal Officer: The Designated Federal Officer (DFO) section of the Charter is being updated to reflect leadership changes within ETA and subsequent shift of the DFO responsibilities from the Administrator of the Office of Apprenticeship to the Deputy Administrator for National Office Policy from the Office of Apprenticeship.

3. Representation: The Representation section of the Charter is being updated to better align the ACA membership with the ACA's focus on Registered Apprenticeship. NAGLO does not focus solely on Registered Apprenticeship matters. The Representation section of the Charter is being further updated to streamline the number of ex-officio members from Federal agencies represented on the ACA. The current Charter reflects ex-officio membership for five Federal agencies: The U.S. Departments of (1) Commerce, (2) Education, (3) Energy, (4) Health and Human Services, and (5) Labor. A major part of ETA's apprenticeship expansion focuses on expanding Registered Apprenticeship as a premiere workforce development strategy among businesses, workforce development entities, post-secondary institutions, Career and Technical Education and other educational institutions. The proposed Charter is being updated to streamline the number of Federal agencies represented on the ACA to the Departments of Commerce, Education, and Labor. ETA will continue to engage with other Federal agencies as appropriate.

4. Recordkeeping: The Recordkeeping section of the Charter is being updated to reflect changes to the General Records Schedule for advisory committees. The current Charter states that the records of the ACA shall be handled in accordance with the General Records Schedule 26, item 2 and the approved records disposition schedule for the Employment and Training Administration. The proposed Charter is being updated to reflect changes in the General Records Schedule for advisory committees; records of the ACA will be handled in accordance with General Records Schedule 6.2, Federal Advisory Committee Records, and the approved records disposition schedule for the Employment and Training Administration.

Signed at Washington, DC.
Portia Wu,
Assistant Secretary for the Employment and Training Administration.

[FR Doc. 2016-30486 Filed 12-16-16; 8:45 am]

BILLING CODE 4510-FR-P